DEPARTMENT OF THE INTERIOR

National Park Service

[NPS-WASO-NAGPRA-23207; PPWOCRADN0-PCU00RP14.R50000]

Notice of Intent To Repatriate Cultural Items: U.S. Department of the Interior, National Park Service, Ocmulgee National Monument, GA

AGENCY: National Park Service, Interior.

ACTION: Notice.

SUMMARY: The U.S. Department of the Interior, National Park Service, Ocmulgee National Monument, in consultation with the appropriate Indian tribes or Native Hawaiian organizations, has determined that the cultural items listed in this notice meet the definition of unassociated funerary objects. Lineal descendants or representatives of any Indian tribe or Native Hawaiian organization not identified in this notice that wish to claim these cultural items should submit a written request to Ocmulgee National Monument. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Ocmulgee National Monument at the address in this notice by July 3, 2017.

ADDRESSES: Jim David, Superintendent, Ocmulgee National Monument, 1207 Emery Highway, Macon, GA 31217, telephone (478) 752-8257, email jim_david@nps.gov.

SUPPLEMENTARY INFORMATION: Notice is here given in accordance with the Native American Graves Protection and Repatriation Act (NAGPRA), 25 U.S.C. 3005, of the intent to repatriate cultural items under the control of the U.S. Department of the Interior, National Park Service, Ocmulgee National Monument, Macon, GA, that meet the definition of unassociated funerary objects under 25 U.S.C. 3001.

This notice is published as part of the National Park Service's administrative responsibilities under NAGPRA, 25 U.S.C. 3003(d)(3). The determinations in this notice are the sole responsibility of the Superintendent, Ocmulgee National Monument.

History and Description of the Cultural Items

Between 1933 and 1938, 436 cultural items were removed from Lamar Mounds and Village in Bibb County, GA, during legally authorized projects sponsored by the Works Progress Administration. The human remains were repatriated to culturally affiliated tribes in 2015 by the Smithsonian Institution, National Museum of Natural History. The 436 unassociated funerary objects are 3 awls, 25 beads, 1 bag of beads, 1 blade, 1 burin, 3 celts, 1 piece of fired clay, 1 piece of daub, 4 discoidals, 2 earplugs, 24 flakes, 2 animal bones, 5 shells, 1 gorget, 1 jar, 1 projectile point, 3 scrapers, 1 worked shell, 7 soil samples, 1 flake tool, and 348 vessel fragments.

The Lamar Mounds and Village site consists of two mounds, A and B, and a palisaded village area. Archeological evidence indicates that the Lamar Mounds and Village site was occupied during the entire Middle and Late Mississippian periods (A.D. 1200-1650). The regional manifestation of archeological resources from the Mississippian period has been identified as the Lamar Culture. Archeological evidence indicates that the Lamar Culture ceramic types found at Lamar Mounds and Village are closely related to historic Creek and Cherokee ceramic traditions.

The Lamar site is also believed to be the town of Ichisi (Spanish) or Ochisi (Portuguese) encountered by the Hernando de Soto expedition in 1540. Occupation of the site may have continued into the early 18th century. Between A.D. 1685 and 1717, the English used variations of the name Ochesehatchee or Ochese Creek to refer to the river later called the Ocmulgee River. The towns and people living along Ochese Creek during that period were referred to as the Ochese (various spellings) Creek Nation, the Ochese Creek people, and, finally, simply the Creeks. The word Ochese and its variations has been traced from middle Georgia to the Chattahoochee River, then to Florida, and finally to Oklahoma. A squareground of this name existed in Oklahoma until the 1950s. There is an Ochese Street in Okmulgee, Oklahoma. Ethnohistorical information indicates that the Ichisi-Ochese were probably Hitchiti speakers, which would link them directly to Hitchiti speakers among the later Seminole and Miccosukee tribes. The Ichisi-Ochese may also be linked less directly to speakers of closely related Alabama and Koasati languages among the latter-day Alabama and Coushatta tribes.

Determinations Made by Ocmulgee National Monument

Officials of Ocmulgee National Monument have determined that:

• Pursuant to 25 U.S.C. 3001(3)(B), the 436 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and Alabama-Coushatta Tribe of Texas (previously listed as the Alabama-Coushatta Tribes of Texas), Alabama-Quassarte Tribal Town, Cherokee Nation, Coushatta Tribe of Louisiana, Eastern Band of Cherokee Indians, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, Thlopthlocco Tribal Town, and United Keetowah Band of Cherokee Indians in Oklahoma.

Additional Requestors and Disposition

Lineal descendants or representatives of any Indian tribe or Native Hawaiian organization not identified in this notice that wish to claim these cultural items should submit a written request with information in support of the claim to Jim David, Superintendent, Ocmulgee National Monument, 1207 Emery Highway, Macon, GA 31217, telephone (478) 752-8257, email jim_david@nps.gov, by July 3, 2017. After that date, if no additional claimants have come forward, transfer of control of the unassociated funerary objects to Alabama-Coushatta Tribe of Texas (previously listed as the Alabama-Coushatta Tribes of Texas), Alabama-Quassarte Tribal Town, Cherokee Nation, Coushatta Tribe of Louisiana, Eastern Band of Cherokee Indians, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, Thlopthlocco Tribal Town, and United Keetowah Band of Cherokee Indians in Oklahoma may proceed.

Ocmulgee National Monument is responsible for notifying the Absentee-Shawnee Tribe of Indians of Oklahoma, Alabama-Coushatta Tribe of Texas (previously listed as the Alabama-Coushatta Tribes of Texas), Alabama-Quassarte Tribal Town, Catawba Indian Nation (aka Catawba Tribe of South Carolina), Cherokee Nation, Coushatta Tribe of Louisiana, Eastern Band of Cherokee Indians, Jena Band of Choctaw Indians, Kialegee Tribal Town, Miccosukee Tribe of Indians, Mississippi Band of Choctaw Indians, Poarch Band of Creeks (previously listed as the Poarch Band of Creek Indians of Alabama), Seminole Tribe of Florida (previously listed as the Seminole Tribe of Florida (Dania, Big Cypress, Brighton, Hollywood & Tampa Reservations)), Shawnee Tribe, The Chickasaw Nation, The Choctaw Nation of Oklahoma, The Muscogee (Creek) Nation, The Seminole Nation of Oklahoma, Thlopthlocco Tribal Town, and United Keetowah Band of Cherokee Indians in Oklahoma that this notice has been published.

Dated: April 3, 2017.
Melanie O'Brien,
Manager, National NAGPRA Program.

[FR Doc. 2017-11452 Filed 6-1-17; 8:45 am]

BILLING CODE 4312-52-P